DEPARTMENT OF HEALTH AND HUMAN SERVICES

National Institutes of Health

National Center for Complementary & Integrative Health; Amended Notice of Meeting

Notice is hereby given of a change in the meeting of the National Advisory Council for Complementary and Integrative Health, September 19, 2025, 10:00 a.m. to September 19, 2025, 05:00 p.m., National Institutes of Health, DEM 2, 6707 Democracy Boulevard, Bethesda, MD 20892 which was published in the Federal Register on August 11, 2025, 90 FR 38654.

This notice has been amended to reflect the new start time of the Open Session NCCIH Advisory Council meeting, changing it from 12:45 p.m. to 12:15 p.m. This session will be broadcast for public viewing. The meeting is partially Closed to the public.

Dated: September 5, 2025.
Bruce A. George,
Program Analyst, Office of Federal Advisory Committee Policy.

[FR Doc. 2025-17356 Filed 9-9-25; 8:45 am]

BILLING CODE 4140-01-P